DEPARTMENT OF COMMERCE

National Oceanic and Atmospheric Administration

50 CFR Part 635

[Docket No. 110520295-1295-01]

RIN 0648-BA64

Atlantic Highly Migratory Species; Vessel Monitoring Systems; Correction

AGENCY: Commerce, National Oceanic and Atmospheric Administration (NOAA), National Marine Fisheries Service (NMFS).

ACTION: Proposed rule; correction.

SUMMARY: The National Marine Fisheries Service (NMFS) published a proposed rule in the Federal Register of June 21, 2011, concerning modifications to Vessel Monitoring System requirements in Atlantic HMS fisheries. The document contained an incorrect time for a public hearing in Atlantic City, New Jersey. This document corrects that error. All other information contained in the proposed rule has not been changed.

FOR FURTHER INFORMATION CONTACT: Greg Fairclough, (phone: 727-824-5399, fax: 727-824-5398) or Michael Clark (phone: 301-713-2347, fax: 301-713-1917).

Correction

In the Federal Register of June 21, 2011, in FR Doc 2011-15325, on page 36073, the third row of the table is corrected to read:

Location | Date | Time | Address
* * * * * * *
Atlantic City, NJ | July 28, 2011 | 3:30-6:30 p.m. | Atlantic County Library System, Brigantine Branch, 201 15th St. South, Brigantine, NJ 08203.

Authority: 16 U.S.C. 971 et seq.; 16 U.S.C. 1801 et seq.

Dated: June 24, 2011.
John Oliver,
Deputy Assistant Administrator for Operations, National Marine Fisheries Service.

[FR Doc. 2011-16331 Filed 6-28-11; 8:45 am]

BILLING CODE 3510-22-P